DEPARTMENT OF HEALTH AND HUMAN SERVICES

Centers for Disease Control and Prevention

[30Day-19-18AJJ]

Agency Forms Undergoing Paperwork Reduction Act Review

In accordance with the Paperwork Reduction Act of 1995, the Centers for Disease Control and Prevention (CDC) has submitted the information collection request titled Knowledge, Attitudes, and Practices of U.S. Large Animal Veterinarians Concerning Common Veterinary Infection Control Measures When Working with Animal Obstetric Cases to the Office of Management and Budget (OMB) for review and approval. CDC previously published a “Proposed Data Collection Submitted for Public Comment and Recommendations” notice on July 20, 2018 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

Knowledge, Attitudes, and Practices of U.S. Large Animal Veterinarians Concerning Common Veterinary Infection Control Measures When Working with Animal Obstetric Cases—New—National Center for Emerging and Zoonotic Infectious Diseases (NCEZID), Centers for Disease Control and Prevention (CDC).

Background and Brief Description

Veterinarians are particularly at risk of contracting zoonotic infectious diseases due to their close proximity to animals, especially during times of injury or illness. Some veterinarians may be unaware of recommended personal protection measures or opt not to participate in measures that would decrease their risk of contracting a zoonotic disease. In 1977, a survey conducted of 1182 veterinarians showed that approximately 43% of the respondents had contracted an infectious zoonotic disease. Today, this elevated zoonotic disease risk persists; the seroprevalence of Q fever in U.S. veterinarians is 22% and the seroprevalence of leptospirosis is 2.5%. Within the veterinary profession, large animal practitioners might have an increased risk of occupational exposure to infectious zoonotic diseases for many reasons, including decreased biosecurity measures available in the field and the limited space available on a mobile practice for personal protective equipment (PPE).

The goals of this study are to describe veterinarians' knowledge of zoonotic infectious disease, identify veterinarians' attitudes towards zoonotic infectious disease and personal risk, and determine practices to decrease personal risk of infection. By identifying knowledge gaps in personal protective equipment (PPE) use, transmission risk factors, and disease identification/diagnosis, we aim to determine the best methods for education of veterinarians on relevant abortion-associated zoonotic infectious diseases.

The purpose of this study is to better describe veterinarians' current knowledge of zoonotic diseases that cause abortion in large animals, determine common veterinary infection control practices when working up obstetric cases, and identify common barriers to PPE use. In order to develop effective messaging strategies, a deeper understanding of the attitudes and barriers to PPE use is needed.

Information will be collected through a web-based “Livestock abortion-associated zoonoses” survey. The estimated burden per response is 15 minutes. Respondents will be veterinarians interested in bovine, small ruminant, or swine medicine. Collaborating veterinary specialty organizations will distribute announcements about the survey to their memberships along with a link to the electronic survey. CDC anticipates that data analysis will be conducted on approximately 500 de-identified survey responses.

Findings will be used to improve and enhance zoonotic disease education and PPE guidance targeted to veterinarians. OMB approval is requested for one year. Participation is voluntary and there are no costs to respondents other than their time. The total estimated annualized burden hours are 125.

Estimated Annualized Burden Hours
Type of respondents | Form name | Number of respondents | Number of responses per respondent | Average burden per response (in hours)
Veterinarian | Livestock abortion-associated zoonoses | 500 | 1 | 15/60

Jeffrey M. Zirger,
Acting Lead, Information Collection Review Office, Office of Scientific Integrity, Office of Science, Centers for Disease Control and Prevention.

[FR Doc. 2018-27221 Filed 12-14-18; 8:45 am]

BILLING CODE 4163-18-P